DEPARTMENT OF COMMERCE

Bureau of the Census

Establishment of the National Advisory Committee on Racial, Ethnic, and Other Populations

AGENCY: Bureau of the Census, Department of Commerce.

ACTION: Notice of Committee Establishment.

SUMMARY: The Bureau of the Census (Census Bureau) is hereby giving notice that the Secretary of Commerce has determined that the establishment of the National Advisory Committee of Race, Ethnic, and Other Populations is necessary and in the public interest. The Committee will function solely as an advisory body and in compliance with provisions of the Federal Advisory Committee Act. Copies of the charter will be filed with the appropriate Committees of the Congress and with the Library of Congress.

FOR FURTHER INFORMATION CONTACT: Jeri Green, Chief, Office of External Engagement, U.S. Census Bureau, Washington, DC 20233, telephone 301-763-2075 or Jeri.Green@Census.gov.

SUPPLEMENTARY INFORMATION: The Census Bureau's National Advisory Committee on Racial, Ethnic, and Other Populations will advise the Director of the Census Bureau on the full range of Census Bureau programs and activities. The Advisory Committee will provide race, ethnic, and other population expertise from the following disciplines: economic, housing, demographic, socioeconomic, linguistic, technological, methodological, geographic, behavioral and operational variables affecting the cost, accuracy, and implementation of Census Bureau programs and surveys, including the decennial census.

Dated: March 2, 2012.
Robert M. Groves,
Director, Bureau of the Census.

[FR Doc. 2012-5752 Filed 3-8-12; 8:45 am]

BILLING CODE 3510-07-P